DEPARTMENT OF COMMERCE

International Trade Administration

[A-570-028]

Hydrofluorocarbon Blends From the People's Republic of China: Final Results of Antidumping Duty Administrative Review; 2021-2022

AGENCY: Enforcement and Compliance, International Trade Administration, Department of Commerce.

SUMMARY: The U.S. Department of Commerce (Commerce) determines that the sole mandatory respondent, Zhejiang Sanmei Chemical Industry Co., Ltd. (Sanmei) sold hydrofluorocarbon blends (HFC blends) from the People's Republic of China (China) at less than normal value (NV) during the period of review (POR), August 31, 2021, through July 31, 2022.

DATES: Applicable March 8, 2024.

FOR FURTHER INFORMATION CONTACT: Jerry Xiao, AD/CVD Operations, Office II, Enforcement and Compliance, International Trade Administration, U.S. Department of Commerce, 1401 Constitution Avenue NW, Washington, DC 20230; telephone: (202) 482-2273.

SUPPLEMENTARY INFORMATION:

Background

On September 6, 2023, Commerce published in the Federal Register the Preliminary Results ¹ of the 2021-2022 administrative review of the antidumping duty order on HFC blends from China ² and invited interested parties to comment.³ Subsequent to the Preliminary Results, we received case briefs and rebuttal briefs from Sanmei and the American HFC Coalition (the petitioner).⁴ On December 6, 2023, in accordance with section 751(a)(3)(A) of the Tariff Act of 1930, as amended (the Act), Commerce extended the deadline for issuing these final results until March 1, 2024.⁵ For a complete description of the events that occurred since the Preliminary Results, see the Issues and Decision Memorandum.⁶

¹ See Hydrofluorocarbon Blends from the People's Republic of China: Preliminary Results of Antidumping Duty Administrative Review; 2021-2022, 88 FR 60926 (September 6, 2023) (Preliminary Results), and accompanying Preliminary Decision Memorandum (PDM).

² See Hydrofluorocarbon Blends from the People's Republic of China: Antidumping Duty Order, 81 FR 55436 (August 19, 2016) (Order).

³ See Preliminary Results, 88 FR at 60926.

⁴ See Petitioner's Letter, “Case Brief of the HFC Coalition,” dated October 20, 2023; and Sanmei's Letter, “Zhejiang Sanmei's Case Brief,” dated October 20, 2023; see also Petitioner's Letter, “Rebuttal Brief on behalf of the American HFC Coalition,” dated November 1, 2023; and Sanmei's Letter “Zhejiang Sanmei's Rebuttal Brief,” dated November 1, 2023.

⁵ See Memorandum, “Extension of Deadline for Final Results of Antidumping Duty Administrative Review,” dated December 6, 2023.

⁶ See Memorandum, “Decision Memorandum for the Final Results of the 2021-2022 Administrative Review of the Antidumping Duty Order on Hydrofluorocarbon Blends from the People's Republic of China,” dated concurrently with, and hereby adopted by, this notice (Issues and Decision Memorandum).

Scope of the Order

The products subject to the Order are HFC blends from China. A full description of the scope of the Order is contained in the Issues and Decision Memorandum.⁷

⁷ Id.

Analysis of Comments Received

All issues raised in briefs filed by parties in this administrative review are addressed in the Issues and Decision Memorandum and are listed in Appendix I to this notice. The Issues and Decision Memorandum is a public document and on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Separate Rate

Commerce preliminarily determines that one respondent, Sanmei, the only company individually examined in this review, is eligible to receive a separate rate in this review.⁸

⁸ See Preliminary Results at “Separate Rates” section.

China-Wide Entity

Under Commerce's policy regarding the conditional review of the China-wide entity,⁹ the China-wide entity will not be under review unless a party specifically requests, or Commerce self-initiates, a review of the entity. Because no party requested a review of the China-wide entity in this review, the entity is not under review, and the entity's rate (i.e., 216.37 percent) is not subject to change.¹⁰ Commerce considers the 16 companies for which a review was requested (which did not file a separate rate application or did not demonstrate separate rate eligibility) listed in Appendix II to this notice, to be part of the China-wide entity.¹¹

⁹ See Antidumping Proceedings: Announcement of Change in Department Practice for Respondent Selection in Antidumping Duty Proceedings and Conditional Review of the Nonmarket Economy Entity in NME Antidumping Duty Proceedings, 78 FR 65963 (November 4, 2013).

¹⁰ See Order.

¹¹ See Initiation Notice, 87 FR at 61285, (stating “{a}ll firms listed below that wish to qualify for separate rate status in the administrative reviews involving NME countries must complete, as appropriate, either a separate rate application or certification, as described below.”); see also Appendix II, infra, for the list of companies that are subject to this administrative review that are considered to be part of the China-wide entity.

Changes Since the Preliminary Results

Based on our review of the record and comments received from interested parties regarding our Preliminary Results, and for the reasons explained in the Issues and Decision Memorandum, we made certain changes to the margin calculations for Sanmei.¹²

¹² See Issues and Decision Memorandum.

Final Results of Review

For the company subject to this review that established its eligibility for a separate rate, Commerce determines that the following estimated weighted-average dumping margin exists for the period August 31, 2021, through July 31, 2022:

Exporter | Weighted- average dumping margin (percent)
Zhejiang Sanmei Chemical Industry Co., Ltd | 101.14

Disclosure

Commerce intends to disclose the calculations performed in connection with these final results of review to interested parties within five days after public announcement of the final results or, if there is no public announcement, within five days of the date of publication of the notice of final results in the Federal Register, in accordance with 19 CFR 351.224(b).

Assessment Rates

Pursuant to section 751(a)(2)(A) of the Act, and 19 CFR 351.212(b)(1), Commerce shall determine, and U.S. Customs and Border Protection (CBP) shall assess, antidumping duties on all appropriate entries of subject merchandise in accordance with the final results of this review.

For Sanmei, Commerce will calculate importer-specific assessment rates for antidumping duties, in accordance with 19 CFR 351.212(b)(1). Where the respondent reported reliable entered values, Commerce intends to calculate importer-specific ad valorem assessment rates by aggregating the amount of dumping calculated for all U.S. sales to the importer and dividing this amount by the total entered value of the merchandise sold to the importer. Where the respondent did not report entered values, Commerce will calculate importer-specific assessment rates by dividing the amount of dumping for reviewed sales to the importer by the total quantity of those sales. Commerce will calculate an estimated ad valorem importer-specific assessment rate to determine whether the per-unit assessment rate is de minimis; however, Commerce will use the per-unit assessment rate where entered values were not reported. Where an importer-specific ad valorem assessment rate is not zero or de minimis, Commerce will instruct CBP to collect the appropriate duties at the time of liquidation. Where either the respondent's weighted average dumping margin is zero or de minimis, or an importer-specific ad valorem assessment rate is zero or de minimis, Commerce will instruct CBP to liquidate appropriate entries without regard to antidumping duties.¹³

¹³ See 19 CFR 351.106(c)(2).

For entries that were not reported in the U.S. sales database submitted by the exporter individually examined during this review, Commerce will instruct CBP to liquidate such entries at the China-wide rate.¹⁴

¹⁴ For a full discussion of this practice, see Non-Market Economy Antidumping Proceedings: Assessment of Antidumping Duties, 76 FR 65694 (October 24, 2011).

Commerce determined that the companies listed in Appendix II did not qualify for a separate rate. Therefore, we will instruct CBP to assess antidumping duties on entries of subject merchandise from these entities at 216.37 percent, the established weighted-average dumping margin for the China-wide entity.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for shipments of the subject merchandise from China entered, or withdrawn from warehouse, for consumption on or after the publication date, as provided by section 751(a)(2)(C) of the Act: (1) for the exporter listed above, the cash deposit rate will be equal to the weighted-average dumping margin established in the final results of this review; (2) for previously investigated or reviewed Chinese and non-Chinese exporters not listed above that currently have a separate rate, the cash deposit rate will continue to be the exporter-specific rate published for the most recently completed segment of this proceeding where the exporter received that separate rate; (3) for all Chinese exporters of subject merchandise that have not been found to be entitled to a separate rate, the cash deposit rate will be the rate for the China-wide entity (i.e., 216.37 percent); and (4) for all non-Chinese exporters of subject merchandise that have not received their own separate rate, the cash deposit rate will be the rate applicable to the Chinese exporter that supplied that non-Chinese exporter. These deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a violation subject to sanction.

Notification to Interested Parties

We are issuing and publishing these final results of administrative review in accordance with sections 751(a)(1) and 777(i)(1) of the Act and 19 CFR 351.221(b)(5) and 19 CFR 351.213(h)(2).

Dated: March 1, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Since the Preliminary Results

V. Discussion of the Issues

Comment 1: Selection of Surrogate Country

Comment 2: Selection of Surrogate Financial Statements

Comment 3: Trichloroethylene (TCE) Surrogate Value

Comment 4: Certain Errors in Preliminary Margin Calculation

Comment 5: By-Product Offsets

VI. Recommendation

Appendix II

Companies Considered To Be Part of the China-Wide Entity

1. Changzhou Vista Chemical Co., Ltd.

2. Daikin Fluorochemicals (China) Co., Ltd.

3. Dongyang Weihua Refrigerants Co., Ltd.

4. Hangzhou Icetop Refrigeration Co., Ltd.

5. Jiangsu Sanmei Chemicals Co., Ltd.

6. Oasis Chemical Co., Limited

7. Sinochem Environmental Protection Chemicals (Taicang) Co., Ltd.

8. Superfy Industrial Limited

9. Tianjin Synergy Gases Products, Co., Ltd.

10. Weitron International Refrigeration Equipment (Kunshan) Co., Ltd.

11. Weitron International Refrigeration Equipment Co., Ltd.

12. Yangfar Industry Co., Ltd

13. Zhejiang Lantian Environmental Protection Fluoro Material Co. Ltd

14. Zhejiang Quzhou Lianzhou Refrigerants Co., Ltd

15. Zhejiang Yonghe Refrigerant Co., Ltd

16. Zhejiang Zhonglan Refrigeration Technology Co., Ltd

[FR Doc. 2024-04977 Filed 3-7-24; 8:45 am]

BILLING CODE 3510-DS-P